POSTAL SERVICE

Board of Governors; Sunshine Act Meeting

Date and Time: Monday, August 3, 2009, at 4 p.m.; Tuesday, August 4, 2009, at 9 a.m.; Wednesday, August 5, 2009, at 8:30 a.m. and 10:30 a.m.

Place: Washington, DC, at U.S. Postal Service Headquarters, 475 L'Enfant Plaza, SW., in the Benjamin Franklin Room.

Status: August 3 at 4 p.m.—Closed; August 4 at 9 a.m.—Closed; August 5 at 8:30 a.m.—Open; August 5 at 10:30 a.m.—Closed

Matters to be Considered:

Monday, August 3 at 4 p.m. (Closed)

1. Financial Matters.

2. Strategic Issues.

3. Pricing.

4. Personnel Matters and Compensation Issues.

5. Governors' Executive Session—Discussion of prior agenda items and Board Governance.

Tuesday, August 4 at 9:00 a.m. (Closed)

1. Continuation of Monday's closed session agenda.

Wednesday, August 5 at 8:30 a.m. (Open)

1. Call to Order and Approval of Minutes of Previous Meetings.

2. Remarks of the Chairman of the Board.

3. Remarks of the Postmaster General and CEO.

4. Amendments to Board Bylaws.

5. Committee Charters, Assignments and Reports.

6. Quarterly Report on Service Performance.

7. Quarterly Report on Financial Performance.

8. Tentative Agenda for the September 21, 22 and 23, 2009, meeting in Washington, DC, and Adjourn.

Wednesday, August 5 at 10:30 a.m. (Closed)—If Needed.

1. Continuation of Monday's closed session agenda.

Contact Person for More Information: Julie S. Moore, Secretary of the Board, U.S. Postal Service, 475 L'Enfant Plaza, SW., Washington, DC 20260-1000. Telephone (202) 268-4800.

Julie S. Moore,
Secretary.

[FR Doc. E9-18015 Filed 7-24-09; 4:15 pm]

BILLING CODE 7710-12-P